DEPARTMENT OF HEALTH AND HUMAN SERVICES

Centers for Medicare & Medicaid Services

[Document Identifier: CMS-10453]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by August 7, 2023.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number:__, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10453 Medicare Advantage and Prescription Drug Programs: Part C and Part D Explanation of Benefits

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Reinstatement with change of the previously approved collection; Title of Information Collection: Medicare Advantage and Prescription Drug Programs: Part C and Part D Explanation of Benefits; Use: Sections 1852(k)(2)(C)(i) and 1860D-(4)(a)(4) of the Act give CMS authority to require EOBs in MA and Part D, respectively. Corresponding MA and Part D regulations at 42 CFR 422.111(k) and 423.128(e) further specify the requirements to provide a written EOB directly to enrollees following their use of benefits.

These requirements and the CMS model documents help ensure that MA and Part D enrollees receive consistent and timely information about costs associated with their medical claims. Part C and Part D EOBs allow enrollees to track their out-of-pocket expenses and benefit utilization in relation to their plan's deductible and out-of-pocket threshold. This customized information positions enrollees to make informed decisions about their healthcare options. It also enables them to make a more practical use of the information found in plans' Annual Notice of Change and Evidence of Coverage documents, as well as information available through tools such as the Medicare Plan Finder.

MAOs and Part D sponsors use the model documents attached to this information collection to set up the EOB templates in their systems and ensure that EOBs conform with the requirements at 42 CFR 422.111(k) and 423.128(e). MAOs and Part D sponsors populate EOBs to reflect individual enrollee benefits under the plan. CMS issues model EOBs annually through the Health Plan Management System (HPMS). Form Number: CMS-10453 (OMB control number: 0938-1228); Frequency: Monthly; Affected Public: Private Sector, Business or other for-profits and Not-for-profit institutions; Number of Respondents: 1,065; Total Annual Responses: 1,065; Total Annual Hours: 10,650. (For policy questions regarding this collection contact Valerie Yingling at 667-290-8657.)

Dated: June 1, 2023.
William N. Parham, III,
Director, Paperwork Reduction Staff, Office of Strategic Operations and Regulatory Affairs.

[FR Doc. 2023-11996 Filed 6-5-23; 8:45 am]

BILLING CODE P